DEPARTMENT OF ENERGY

Extension Without Change to a Previously Approved Agency Information Collection

AGENCY: U.S. Department of Energy.

ACTION: Notice and request for comments.

SUMMARY: The Department of Energy, pursuant to the Paperwork Reduction Act of 1995, intends to renew, for three years, an information collection request pertaining to the Department's administration of access provisions under the Privacy Act of 1974, with the Office of Management and Budget (OMB). Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; (d) ways to minimize the burden of the collection of information on respondents, including through the use of automated collection techniques or other forms of information technology; and (e) the agency's proposal to change the name of the information collection from the current “Records and Administration” to “Privacy Act Administration,” which reflects a change of the owner of this information collection from the agency's Records Management Officer to the agency's Chief Privacy Officer. The collection instrument has been modified to comply with updates to Privacy Act implementation requirements outlined in OMB Circular A-108, issued January 2017, located at: https://obamawhitehouse.archives.gov/sites/default/files/omb/assets/OMB/circulars/a108/omb_circular_a-108.pdf.

DATES: Comments regarding this proposed information collection must be received on or before June 9, 2017. If you anticipate difficulty in submitting comments within that period, contact the person listed below as soon as possible.

ADDRESSES: Written comments may be sent to Ken Hunt, Chief Privacy Officer, U.S. Department of Energy, 1000 Independence Avenue SW., Rm 8H-085, Washington, DC 20585 or by fax at 202-586-8151 or by email at privacy@hq.doe.gov.

FOR FURTHER INFORMATION CONTACT: Ken Hunt, Chief Privacy Officer, U.S. Department of Energy, 1000 Independence Avenue SW., Rm 8H-085, Washington, DC 20585 or by fax at 202-586-8151 or by email at privacy@hq.doe.gov.

SUPPLEMENTARY INFORMATION: This information collection request contains: (1) OMB No. 1910-1700; (2) Information Collection Request Title: Privacy Act Administration (formerly Records and Administration); (3) Type of Review: Regular; (4) Purpose: The Privacy Act Information Request form aids the Department of Energy's processing of Privacy Act requests submitted by an individual or an authorized representative, wherein he or she is requesting records the government may maintain on the individual. The Department's use of this form continues to contribute to the Department's Privacy Act processes, including, but not limited to, providing for faster processing of Privacy Act information requests by asking individuals or their authorized representative for pertinent information needed for records retrieval; (5) Annual Estimated Number of Respondents: 135; (6) Annual Estimated Number of Total Responses: 135; (7) Annual Estimated Number of Burden Hours: 45; and (8) Annual Estimated Reporting and Recordkeeping Cost Burden: $0.

Authority: Statutory Authority: The Privacy Act of 1974, 5 U.S.C. 552(a); 10 CFR 1008.7; and DOE Order 206.1.

Issued in Washington, DC, on April 3, 2017.
Allan Manuel,
Deputy Chief Information Officer for Enterprise Policy, Portfolio Management, and Governance, Office of the Chief Information Officer.

[FR Doc. 2017-07107 Filed 4-7-17; 8:45 am]

BILLING CODE 6450-01-P